LEGAL SERVICES CORPORATION

Sunshine Act Meetings

TIME AND DATE: The Legal Services Corporation's Board of Directors and its six committees will meet October 19-20, 2020. On Monday, October 19, the first meeting will commence at 11:00 a.m., Eastern Daylight Time (EDT), with the next meeting commencing promptly upon adjournment of the immediately preceding meeting. On Tuesday, October 20, the first meeting will commence at 12:00 p.m., EDT, with the next meeting commencing promptly upon adjournment of the immediately preceding meeting. On Tuesday, October 20, the closed session meeting of the Board of Directors will commence at 4:15 p.m., EDT.

PLACE: Public Notice of Virtual Remote Meeting.

Due to the COVID-19 public health crisis, the Legal Services Corporation (LSC) will be conducting the October 19-20, 2020 meetings remotely via ZOOM.

Public Observation: Unless otherwise noted herein, the Board and all committee meetings will be open to public observation. Members of the public who wish to participate remotely in the public proceedings may do so by following the directions provided below.

Directions for Open Sessions

Monday, October 19, 2020

• To join the Zoom Meeting by computer: Please click the below link. _https://lsc-gov.zoom.us/j/96168178150?pwd=ejRyWVB1WjhPdzBWUFgyU3RWL1lRdz09

• Meeting ID: 961 6817 8150

• Passcode: 924291

• To join the Zoom meeting with one touch from your mobile phone, click below:

+16468769923,,96168178150# US (New York)

+13017158592,,96168178150# US (Germantown)

• To join the Zoom meeting by phone, use this information:

Dial by Your Location

+1 646 876 9923 US (New York)

+1 301 715 8592 US (Germantown)

+1 312 626 6799 US (Chicago)

+1 408 638 0968 US (San Jose)

+1 669 900 6833 US (San Jose)

+1 253 215 8782 US (Tacoma)

+1 346 248 7799 US (Houston)

• Meeting ID: 961 6817 8150

• Find your local number: https://lsc-gov.zoom.us/u/adWoHtjdDC

Tuesday, October 20, 2020

• To join the Join Zoom Meeting by computer: Please click the link below. https://lsc-gov.zoom.us/j/99617220941?pwd=UERGbWgxSGNxMXY2R3I3cVdGN0tOZz09

• Meeting ID: 996 1722 0941

• Passcode: 100975

• To join the Zoom meeting with one touch from your mobile phone, click below:

+13126266799,,99617220941# US (Chicago)

+16468769923,99617220941# US (New York)

To join the Zoom meeting by phone, use this information:

Dial by Your Location

+1 312 626 6799 US (Chicago)

+1 646 876 9923 US (New York)

+1 301 715 8592 US (Germantown)

+1 669 900 6833 US (San Jose)

+1 253 215 8782 US (Tacoma)

+1 346 248 7799 US (Houston)

+1 408 638 0968 US (San Jose)

• Meeting ID: 996 1722 0941

• Find your local number: https://lsc-gov.zoom.us/u/awqnEjm69

• When connected to the call, please immediately “MUTE” your telephone. Members of the public are asked to keep their telephones muted to eliminate background noises. To avoid disrupting the meeting, please refrain from placing the call on hold if doing so will trigger recorded music or other sound. From time to time, the Chair may solicit comments from the public.

• To participate in the meeting during public comment you will be notified when your microphone is no longer “MUTED” and you may give your questions, and or comments.

Meeting Schedule
| Time **
Monday, October 19, 2020
1. Governance and Performance Review Committee | 11:00 a.m.
2. Institutional Advancement Committee
3. Communications Subcommittee of the Institutional Advancement Committee
4. Operations & Regulations Committee
5. Delivery of Legal Services Committee
Tuesday, October 20, 2020
1. Finance Committee | 12:00 p.m.
2. Audit Committee
3. Board of Directors
** Any portion of the closed session consisting solely of briefings does not fall within the Sunshine Act's definition of the term “meeting” and, therefore, the requirements of the Sunshine Act do not apply to such portion of the closed session. 5 U.S.C. 552b (a) (2) and (b). See also 45 CFR 1622.2 & 1622.3. Please note all meetings are Eastern Daylight Time (EDT).

Status of Meeting: Open, except as noted below.

Board of Directors—Open, except that, upon a vote of the Board of Directors, a portion of the meeting may be closed to the public to hear briefings by management and LSC's Inspector General, and to consider and act on the General Counsel's report on potential and pending litigation involving LSC.**

Institutional Advancement Committee—Open, except that, upon a vote of the Board of Directors, the meeting may be closed to the public to consider and act on recommendation of new Leaders Council invitees and to receive a briefing on the Development activities.**

Audit Committee—Open, except that the meeting may be closed to the public to hear a briefing on the Office of Compliance and Enforcement's active enforcement matters.**

A verbatim written transcript will be made of the closed session of the Board, Institutional Advancement Committee, and Audit Committee meetings. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

October 19, 2020

Governance and Performance Review Committee

Open Session

1. Approval of agenda

2. Approval of minutes of the Committee's Open Session meeting on July 27, 2020

3. Report on process and timeline for preparation for Administration Transition teams

• Carol Bergman, Vice President for Government Relations & Public Affairs

4. Report on annual Board and Committee evaluations

• Carol Bergman, Vice President for Government Relations & Public Affairs

5. Consider and act on other business

6. Public comment

7. Consider and act on motion to adjourn the meeting

Institutional Advancement Committee

Open Session

1. Approval of agenda

2. Approval of minutes of the Committee's Open Session meeting of July 27, 2020

3. Update on Leaders Council and Emerging Leaders Council

• John G. Levi, Chairman of the Board

4. Development report

• Nadia Elguindy, Director of Institutional Advancement

• Ron Flagg, President

5. Report on Fundraising Training

• Leo Latz, Latz & Company

6. Update on Veterans Task Force and Opioid Task Force Implementation

• Stefanie Davis, Senior Assistant General Counsel

7. Update on Disaster Task Force Implementation

• Lynn Jennings, Vice President for Grants Management

8. Report on ABA Young Lawyers Division's Innovation Committee's Short Legal Tech Story Competition

• Matthew Stubenberg, Harvard Access to Justice Lab Emerging Leaders Council Member

• Miguel Willis, Access to Justice Technology Fellows Program & Emerging Leaders Council Member

9. Public Comment

10. Consider and act on other business

11. Consider and act on motion to adjourn the open session meeting and proceed to a closed session

Closed Session

1. Approval of minutes of the Committee's Closed Session meeting of July 27, 2020

2. Development activities report

• Nadia Elguindy, Director of Institutional Advancement

3. Consider and act on motion to approve Leaders Council and Emerging Leaders Council invitees

4. Consider and act on other business

5. Consider and act on motion to adjourn the meeting

October 19, 2020

Communications Subcommittee of the Institutional Advancement Committee

Open Session

1. Approval of agenda

2. Approval of minutes of the Subcommittee's Open Session meeting of July 27, 2020

3. Communications and social media update

• Carl Rauscher, Director of Communications and Media Relations

4. Public comment

5. Consider and act on other business

6. Consider and act on motion to adjourn the meeting

October 19, 2020

Operations & Regulations Committee

Open Session

1. Approval of agenda

2. Approval of minutes of the Committee's Open Session meeting of July 27, 2020

3. Consider and act on Proposed Final Rule for 45 CFR part 1635—Timekeeping

• Stefanie Davis, Senior Assistant General Counsel

• Ron Flagg, President and General Counsel

4. Update on public comment on the draft Financial Guide to replace the Accounting Guide

• Mark Freedman, Senior Associate General Counsel

• Stuart Axenfeld, Deputy Director for Fiscal Compliance, Office of Compliance and Enforcement

5. Public comment

6. Consider and act on other business

7. Consider and act on adjournment of meeting

October 19, 2020

Delivery of Legal Services Committee

Open Session

1. Approval of agenda

2. Approval of minutes of the Committee's Open Session meeting on July 27, 2020

3. LSC Performance Criteria Update

• Lynn Jennings, Vice President for Grants Management

4. Presentation on California's Sargent Shriver Counsel Act Evaluation

• Estela Casas, Executive Director, Greater Bakersfield Legal Assistance

• Gina Cervantes, Self Help Attorney, Superior Court of California, Kern County

• Bonnie Rose Hough, Principal Managing Attorney, Judicial Council of California

5. Eviction Update

• Emily A. Benfer, Visiting Professor of Law, Wake Forest University School of Law

6. Public comment

7. Consider and act on other business

8. Consider and act on motion to adjourn the meeting

October 20, 2020

Finance Committee

Open Session

1. Approval of agenda

2. Approval of the minutes of the Committee's Open Session meeting of July 14, 2020

3. Approval of the minutes of the Committee's Open Session meeting of July 28, 2020

4. Presentation of LSC's Financial Report for the quarter ending September 30, 2020

• Debbie Moore, Chief Financial Officer & Treasurer

5. Report on the status of FY 2021 appropriations process and COVID-19 Supplemental Appropriations

• Carol Bergman, Vice President for Government Relations & Public Affairs

6. Report of FY 2021 Budget

• Ron Flagg, President

• Debbie Moore, Treasurer and Chief Financial Officer

7. Consider and Act on Resolution #2020-XXX on a Temporary Operating Budget and Special Circumstance Operating Authority for Fiscal Year 2021

8. Report of FY 2022 appropriations process

• Carol Bergman, Vice President, Government Relations & Public Affairs

9. Public comment

10. Consider and act on other business

11. Consider and act on adjournment of meeting

October 20, 2020

Audit Committee

Open Session

1. Approval of agenda

2. Approval of minutes of the Committee's Open Session meeting on July 28, 2020

3. Briefing of Office of Inspector General

• Jeffrey Schanz, Inspector General

• Roxanne Caruso, Assistant Inspector General for Audits

4. FY 2020 Audit Update

• Debbie Moore, Chief Financial Officer & Treasurer

• Jeffrey Schanz, Inspector General

• Roxanne Caruso, Assistant Inspector General for Audits

5. Accounting Manual Update

• Debbie Moore, Chief Financial Officer & Treasurer

6. Review LSC's efforts, including training and education, to help ensure that LSC employees and grantees act ethically and safeguard LSC funds

• Rebecca Weir, Senior Assistant General Counsel and Chief Ethics Officer

• Debbie Moore, Chief Financial Officer & Treasurer

• Lynn Jennings, Vice President for Grants Management

• Jeffrey Schanz, Inspector General

7. Management update regarding risk management

• Ron Flagg, President

• Jada Breegle, Chief Information Officer

8. Briefing about follow-up by the Office of Compliance and Enforcement on referrals by the Office of Inspector General regarding audit reports and annual Independent Public audits of grantees

• Lora Rath, Director of Compliance and Enforcement

• Roxanne Caruso, Assistant IG for Audits

9. Public comment

10. Consider and act on other business

11. Consider and act on motion to adjourn the open session meeting and proceed to a closed session

Closed Session

1. Approval of minutes of the Committee's Closed Session meeting of July 28, 2020

2. Briefing on Office of Compliance and Enforcement on active enforcement matter(s) and follow-up on open investigations referrals from the Office of Inspector General

• Lora Rath, Director, Compliance and Enforcement

3. Consider and act on adjournment of meeting

October 20, 2020

Board of Directors

Open Session—October 20, 2020

1. Pledge of Allegiance

2. Approval of agenda

3. Approval of minutes of the Board's Open Session meeting of July 28, 2020

4. Chairman's Report

5. Members' Report

6. President's Report

7. Inspector General's Report

8. Consider and act on the report of the Governance and Performance Committee

9. Consider and act on the report of the Operations and Regulations Committee

10. Consider and act on the report of the Finance Committee

11. Consider and act on the report of the Audit Committee

12. Consider and act on the report of the Institutional Advancement Committee

13. Consider and act on the report of the Delivery of Legal Services Committee

14. Consider and act on contract for LSC President

15. Report on process and timeline for Strategic Plan

• Ronald Flagg, President

• Ron Prater, Bent Ear Solution

16. Public Comment

17. Consider and act on other business

18. Consider and act on whether to authorize a closed session of the Board to address items listed below

Closed Session

1. Approval of minutes of the Board's Closed Session meeting of July 28, 2020

2. Management briefing

3. Inspector General briefing

4. Consider and act on General Counsel's report on potential and pending litigation involving LSC

5. Consider and act on prospective Leaders Council and Emerging Leaders Council invitees

7. Consider and act on motion to adjourn meeting

CONTACT PERSON FOR MORE INFORMATION: Karly Satkowiak, Special Counsel at (202) 295-1633 and Katherine Ward, Executive Assistant to the Vice President & General Counsel, at (202) 295-1500. Questions may be sent by electronic mail to FR_NOTICE_QUESTIONS@lsc.gov.

Non-Confidential Meeting Materials: Non-confidential meeting materials will be made available in electronic format at least 24 hours in advance of the meeting on the LSC website, at http://www.lsc.gov/board-directors/meetings/board-meeting-notices/non-confidential-materials-be-considered-open-session.

Dated: October 9, 2020.
Stefanie Davis,
Senior Assistant General Counsel.

[FR Doc. 2020-22899 Filed 10-13-20; 4:15 pm]

BILLING CODE 7050-01-P